DEPARTMENT OF HEALTH AND HUMAN SERVICES

Administration for Children and Families

Submission for Office of Management and Budget Review; Office of Community Services Affordable Housing and Supportive Services Demonstration Data Collection (Office of Management and Budget #: 0970-0628)

AGENCY: Office of Community Services, Administration for Children and Families, U.S. Department of Health and Human Services.

ACTION: Request for public comments.

SUMMARY: The Office of Community Services (OCS), Administration for Children and Families (ACF), U.S. Department of Health and Human Services, is requesting an extension of approval for a recently approved information collection: OCS Affordable Housing and Supportive Services Demonstration (Office of Management and Budget (OMB) #: 0970-0628, Expiration Date: September 30, 2024). This information collection was originally approved for 6 months as an emergency approval. In addition to extending the approval, OCS seeks to update the burden estimates to accommodate an anticipated increase in the number of grant recipients, as well as to collect additional responses to several of the instruments. OCS also seeks to make updates to approved forms.

DATES: Comments due October 3, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: OCS is seeking to continue collecting the information requested from grant recipients under OMB #: 0970-0628. In order to determine best practices in the implementation of supportive services in the affordable housing context and describe how supportive services help residents to improve well-being and economic mobility, OCS will engage in the following activities:

• Conducting interviews with program directors and caseworkers to understand program implementation.

• Conducting focus groups with residents to understand their needs and how the services funded by this grant impacted their lives.

• Administering a self-sufficiency matrix to residents receiving intensive services to understand the impact of the program on various domains of well-being.

• Conducting a questionnaire with residents, to see if they were able to access more services due to the funding.

• Collecting information from program officers about the number and types of services/events provided, aggregate demographics of residents served, partner organizations and referrals, and how the housing community was impacted by the grant funding.

• Collecting narrative reports from program officers about the progress of implementation of the program.

This request is to extend the approved collection period to 3 years, which will permit OCS to complete the collection with current grant recipients as well as future grant recipients. With an extended timeline, OCS will request additional responses for several approved instruments to observe activities over the course of the full project period for grant recipients. The self-sufficiency matrix and service receipt questionnaires will be administered every 6 months during the project period. The semi-annual quantitative report mandatory and optional forms will be required every 6 months, with a final cumulative report. The quarterly narrative PPR will be requested every quarter of the project period.

OCS has developed substantially revised 2024 versions of the semi-annual quantitative report forms for the mandatory and optional reports to broaden the measures of service delivery and outcomes to better accommodate the universe of potential services offered by future cohorts of grant recipients. The new mandatory form combines the direct services and referrals tabs of the original form into a single tab where grant recipients will report the number of individuals receiving services through AHSSD funding and through the organization's other funding sources, alongside the information reported about referrals. The new optional form broadens the list of outcome measures that grant recipients can choose to report for the individuals they serve. In consideration of the overall reporting burden for grant recipients, the 2024 version of the forms continue draw upon the service and outcome categories that grant recipients already use to report their Community Services Block Grant-related activities (OMB# 0970-0492). Additionally, the 2024 version of the forms request cumulative counts across the grant period, negating the need for a separate final report.

Current grant recipients will be able to choose between using the current 2023 version of the forms and the revised 2024 version of the forms through the completion of their current project. New grant recipients will be required to use the 2024 version of the forms.

Respondents: There will be three types of respondents to the proposed instruments. First, the direct beneficiaries, the clients receiving supportive services, will participate in the service receipt questionnaire, self-sufficiency matrix, and focus groups, and they will also provide information about their characteristics, needs, and outcomes for the grant recipients' semi-annual quantitative reporting. Second, the program directors and social services staff will respond to interview instruments tailored to their roles. Grant recipients will also be asked to complete quarterly narrative PPRs and semi-annual quantitative reports to describe their service delivery activities, and outcomes.

Annual Burden Estimates

Burden estimates show the total number of responses per respondent over the next 3 years. The current grant recipients (9 total) will be able to choose between using the 2023 version of the semi-annual quantitative report forms and the 2024 version of those forms through the completion of their current project. New grant recipients (9 new recipients estimated) will be required to use the 2024 version of the forms.

Instrument | Total number of respondents | Total number of responses per respondent | Average burden hours per response | Total burden hours | Annual burden hours
Interviews with program directors | 18 | 1 | 1.5 | 27 | 9
Interviews with caseworkers | 36 | 1 | 1 | 36 | 12
Focus groups with residents | 105 | 1 | 1.5 | 157.5 | 52.5
Self-sufficiency matrix | 680 | 3 | 1.5 | 3,060 | 1,020
Service receipt questionnaire | 680 | 3 | .25 | 510 | 170
2023 Version—Semi-Annual Quantitative Report Mandatory Form | 3 | 4 | 3 | 36 | 12
2024 Version—Semi-Annual Quantitative Report Mandatory Form | 15 | 3 | 3 | 135 | 45
2023 Version—Semi-Annual Quantitative Report Optional Form | 1 | 4 | 3 | 12 | 4
2024 Version—Semi-Annual Report Optional Form | 5 | 3 | 3 | 45 | 15
Quarterly Narrative PPR | 18 | 6 | 2 | 216 | 72

Estimated Total Annual Burden Hours: 1,411.5.

Authority: Section 1110, Social Security Act, 42 U.S.C. 1310.

Mary C. Jones,
ACF/OPRE Certifying Officer.

[FR Doc. 2024-19695 Filed 8-30-24; 8:45 am]

BILLING CODE 4184-24-P